GENERAL SERVICES ADMINISTRATION

[OMB Control No. 3090-0290; Docket No. 2018-0001; Sequence No. 16]

Information Collection; System for Award Management Registration Requirements for Prime Grant Recipients

AGENCY: Office of the Integrated Award Environment, General Services Administration (GSA).

ACTION: Notice of request for comments regarding revisions to an existing OMB information collection.

SUMMARY: Under the provisions of the Paperwork Reduction Act of 1995, the Regulatory Secretariat Division will be submitting to the Office of Management and Budget (OMB) a request to review and approve revisions to the currently approved information collection requirement regarding the pre-award registration requirements for federal Prime Grant Recipients. These revisions will enable non-Federal entities to complete governmentwide certifications and representations for Federal financial assistance at the time of registration in the System for Award Management (SAM).

DATES: Submit comments on or before July 24, 2018.

ADDRESSES: Submit comments on “Information Collection 3090-0290, System for Award Management Registration Requirements for Prime Grant Recipients” by any of the following methods:

• Regulations.gov: http://www.regulations.gov. Submit comments via the Federal eRulemaking portal by searching the OMB control number 3090-0290. Select the link “Comment Now” that corresponds with “Information Collection 3090-0290, System for Award Management Registration Requirements for Prime Grant Recipients”. Follow the instructions provided on the screen. Please include your name, company name (if any), and “Information Collection 3090-0290, System for Award Management Registration Requirements for Prime Grant Recipients” on your attached document.

• Mail: General Services Administration, Regulatory Secretariat Division (MVCB), 1800 F Street NW, Washington, DC 20405. ATTN: Ms. Mandell/IC 3090-0290.

Instructions: Please submit comments only and cite Information Collection 3090-0290, System for Award Management Registration Requirements for Prime Grant Recipients, in all correspondence related to this collection. Comments received generally will be posted without change to http://www.regulations.gov, including any personal and/or business confidential information provided. To confirm receipt of your comment(s), please check regulations.gov approximately two to three days after submission to verify posting (except allow 30 days for posting of comments submitted by mail).

FOR FURTHER INFORMATION CONTACT: Ms. Nancy Goode, Program Manager, IAE Outreach and Stakeholder Management Division, at telephone number 703-605-2175; or via email at nancy.goode@gsa.gov.

SUPPLEMENTARY INFORMATION:

A. Purpose

This information collection requires information necessary for prime applicants and recipients, excepting individuals, of Federal grants to register in the System for Award Management (SAM) and maintain an active SAM registration with current information at all times during which they have an active Federal award or an application or plan under consideration by an agency pursuant to 2 CFR Subtitle A, Chapter I, and part 25 (75 FR 55673 as amended at 79 FR 75879). 2 CFR Subtitle A, Chapter I, and part 25 designates SAM as the governmentwide repository for standard information about applicants and recipients. 2 CFR Subtitle A, Chapter II, and part 200 (80 FR 43308) also designates SAM as the system recipients are required to report certain civil, criminal, or administrative proceedings if they meet certain conditions. Further, Federal awarding agencies are required to check SAM for pre-award purposes in accordance with 2 CFR part 180. This information collection requires that all prime grant awardees, subject to the requirements in 2 CFR Subtitle A, Chapter I, and part 25 register and maintain their registration in SAM.

Pursuant to 2 CFR Subtitle A, Chapter II, part 200, Subpart C, Section 200.208 Certifications and representations, Federal agencies are authorized to require non-Federal entities to submit certifications and representations required by Federal statutes, or regulations on an annual basis. Currently, most Federal agencies require non-Federal entities to submit certifications with each Federal assistance application by use of the Assurances for Non-Construction Programs (SF-424B) and on an annual basis thereafter. To streamline this data collection and to reduce burden, OMB, in conjunction with the Federal assistance community, developed standard governmentwide certifications and representations to be certified by the non-Federal entity when registering in SAM. In Fiscal Year 2019, OMB will reemphasize that SAM is the repository for standard information about applicants and recipients and that the standard governmentwide certifications and representations are to be certified within SAM at the time of registration and/or registration renewal should meet the need of governmentwide certifications and representations. This will reduce the unnecessary, duplicative practice of agencies requesting certifications and representations with the submission of each application and lead to phasing out the use of the SF-424B, thereby decreasing the burden level of Federal grant recipients and Federal agencies.

B. Annual Reporting Burden

Respondents: 143,334.

Responses per Respondent: 1.

Total Annual Responses: 143,334.

Hours per Response: 2.5.

Total Burden Hours: 358,335.

C. Public Comments

Public comments are particularly invited on: Whether this collection of information is necessary for the proper performance of functions of the System for Award Management Registration Requirements for Prime Grant Recipients, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents in hard-copy or electronic format. Hard copy: General Services Administration, Regulatory Secretariat Division (MVCB), 1800 F Street NW, Washington, DC 20405, telephone 202-501-4755. Please cite OMB Control No. 3090-0290, System for Award Management Registration Requirements for Prime Grant Recipients, in all correspondence.

Dated: May 22, 2018.
David A. Shive,
Chief Information Officer.

[FR Doc. 2018-11319 Filed 5-24-18; 8:45 am]

BILLING CODE 6820-WY-P